DEPARTMENT OF ENERGY

Federal Energy Regulatory Commission

[Docket No. RP97-255-017]

December 20, 2000.

Take notice that on December 8, 2000,TransColorado Gas Transmission Company (TransColorado) tendered for filing as part of its FERC Gas Tariff, Original Volume No. 1, Seventeenth Revised Sheet No. 21 and Thirteenth Revised Sheet No. 22, with an effective date of December 8, 2000.

TransColorado states that the tendered tariff sheets revised TransColorado's Tariff to reflect the new negotiated-rate firm transportation service contract with Enserco Energy, Inc., and the deletion of a negotiated-rate firm transportation service agreement with Burlington Resources Trading Inc. that was terminated November 8, 2000.

TransColorado states that a copy of the filing has been served upon all parties to this proceeding, TransColorado's customers, the Colorado Public Utilities Commission and the New Mexico Public Utilities Commission.

Any person desiring to be heard or to protest said filing should file a motion to intervene or a protest with the Federal Energy Regulatory Commission, 888 First Street, NE., Washington, DC 20426, in accordance with Sections 385.214 or 385.211 of the Commission's Rules and Regulations. All such motions or protest must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32900 Filed 12-26-00; 8:45 am]

BILLING CODE 6717-01-M